DEPARTMENT OF LABOR

Bureau of International Labor Affairs; Office of Trade Agreement Implementation; National Advisory Committee for Labor Provisions of U.S. Free Trade Agreements; Notice of Open Meeting

AGENCY: Office of the Secretary, Labor.

ACTION: Notice of Open Meeting September 15, 2006.

SUMMARY: Pursuant to the Federal Advisory Committee Act (Pub. L. 92-463), the Office of Trade Agreement Implementation (OTAI) gives notice of a meeting of the National Advisory Committee for Labor Provisions of U.S. Free Trade Agreements (“Committee”), which was established by the Secretary of Labor.

The Committee was established to provide advice to the U.S. Department of Labor on matters pertaining to the implementation of the North American Agreement on Labor Cooperation (NAALC)—the labor side accord to the North American Free Trade Agreement (NAFTA)—and the labor chapters of free trade agreements. The Committee is authorized under NAALC and the free trade agreements.

The Committee consists of twelve independent representatives drawn from among labor organizations, business and industry, educational institutions, and the general public.

DATES: The Committee will meet on September 15, 2006 from 1:30 p.m. to 4:30 p.m.

ADDRESSES: U.S. Department of Labor, 200 Constitution Avenue, NW., Center Conference Rooms C 5515, Conference Room No. 3, Washington, DC 20210. The meeting is open to the public on a first-come, first-served basis, as seating is limited.

FOR FURTHER INFORMATION CONTACT: Dr. Peter Accolla, designated Federal Officer, Office of Trade Agreement Implementation, Bureau of International Labor Affairs, U.S. Department of Labor, 200 Constitution Avenue, NW., Room S-5205, Washington, DC 20210. Telephone 202-693-4900 (this is not a toll free number).

SUPPLEMENTARY INFORMATION: Please refer to the notice published in the Federal Register on December 23, 2004 (69 FR 77127-131) for supplementary information.

Signed at Washington, DC on August 2, 2006.
Peter Accolla,
Acting Director, Office of Trade Agreement Implementation.

[FR Doc. E6-12858 Filed 8-3-06; 4:17 pm]

BILLING CODE 4510-28-P